DEPARTMENT OF THE INTERIOR

Bureau of Land Management

[WY-050-1430-FR; WYW 49773]

Notice of Realty Action; Recreation and Public Purposes Act Classification of Public Lands in Fremont County, WY

AGENCY: Bureau of Land Management, Interior.

ACTION: Notice.

SUMMARY: The Bureau of Land Management (BLM) has examined and found suitable for classification for conveyance under the provisions of the Recreation and Public Purposes (R&PP) Act, as amended, approximately 73.42 acres of public land in Fremont County, Wyoming. The Wyoming Department of State Parks and Cultural Resources (WDSPCR), proposes to use the land as part of the South Pass City State Historic Site.

DATES: Interested parties may submit comments regarding the proposed conveyance or classification of the lands until June 23, 2008.

ADDRESSES: Send written comments to the Field Manager, Lander Field Office, 1335 Main Street, Lander, Wyoming 82520.

FOR FURTHER INFORMATION CONTACT: Robert B. Ross, Jr., Field Manager, Bureau of Land Management, Lander Field Office, at (307) 332-8400.

SUPPLEMENTARY INFORMATION: In accordance with Section 7 of the Taylor Grazing Act, (43 U.S.C. 315f), and Executive Order No. 6910, the following described public land in Fremont County, Wyoming, has been examined and found suitable for classification for conveyance under the provisions of the R&PP Act, as amended, (43 U.S.C. 869 et seq.):

Sixth Principal Meridian, Wyoming

T. 29 N., R. 100 W.,

Sec. 20, lots 6, 7, 9, 19 and 24.

The land described contains 73.42 acres, more or less.

The following described public land was previously classified for lease only under the R&PP Act on June 2, 1976, and has been leased to WDSPCR as part of the South Pass City State Historic Site since July 21, 1976:

Sixth Principal Meridian, Wyoming

T. 29 N., R. 100 W.,

Sec. 20, lots 7 and 9.

The land described contains 25.47 acres, more or less.

In accordance with the R&PP Act, WDSPCR filed an application for the above-described 73.42 acres of public land to be developed as part of the South Pass City State Historic Site. The additions include restoration of historic town-site buildings, an interpretive trail for historic gold mining features, a primitive camping area that would accommodate tent campers, restroom facilities, hiking trails, and day-use facilities. Additional detailed information pertaining to this application, plan of development, and site plan is in case file W-49773, located in the BLM Lander Field Office at the above address.

The land is not needed for any Federal purpose. The conveyance is consistent with the Lander Resource Management Plan dated June 9, 1987, and would be in the public interest. The patent, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The patent will be subject to all valid existing rights documented on the official public land records at the time of patent issuance.

On May 8, 2008, the land described above will be segregated from all other forms of appropriation under the public land laws, including the general mining laws, except for conveyance under the R&PP Act, leasing under the mineral leasing laws, and disposals under the mineral material disposal laws.

Classification Comments: Interested parties may submit comments involving the suitability of the land for a State Historic Park Site. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision to convey under the R&PP Act, or any other factor not directly related to the suitability of the land for R&PP use.

Confidentiality of Comments: Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager—BLM Lander Field Office will be considered properly filed. Electronic mail, facsimile or telephone comments will not be considered properly filed.

Any adverse comments will be reviewed by the State Director. In the absence of any adverse comments, the classification of the land described in this notice will become effective July 7, 2008. The lands will not be available for conveyance until after the classification becomes effective.

Authority: 43 CFR 2740.

Dated: April 30, 2008.
Robert B. Ross, Jr.,
Field Manager, Lander, WY.

[FR Doc. E8-10234 Filed 5-7-08; 8:45 am]

BILLING CODE 4310-22-P